DEPARTMENT OF LABOR

Office of the Secretary

Presidential Task Force on Employment of Adults With Disabilities (PTFEAD) Youth Advisory Committee; Notice of Open Meeting and Agenda

AGENCY: Office of the Secretary of Labor.

ACTION: Notice of meeting.

SUMMARY: The Office of the Secretary, United States Department of Labor, is notifying the public that the Youth Advisory Committee to the Presidential Task Force on Employment of Adults with Disabilities will conduct an open meeting on Monday, March 4 and Tuesday, March 5, 2002 in Washington, DC.

Times and Location: The Youth Advisory Committee will meet from 9:00 a.m. until approximately 4:00 p.m., on Monday, March 4 and Tuesday, March 5, 2002, at the Grand Hyatt Washington, 1000 H Street, NW., Washington, DC 20001-1501.

FOR FURTHER INFORMATION CONTACT: Dr. Richard Horne, Senior Policy Advisor, Presidential Task Force on Employment of Adults with Disabilities (phone: (202) 693-4923; TTY (202) 693-4920; FAX (202) 693-4929; e-mail Horne-Richard@dol.gov).

SUPPLEMENTARY INFORMATION: The meeting will be open to the public. Anyone wishing to do so may submit a written statement. Written statements should be kept as brief as possible. Written submissions received prior to the meeting will be provided to the members of the committee and will be included in the record of the meeting. To ensure that a written statement is received in time to be taken to the meeting, the statement should be mailed to the contact person at least 7 business days prior to the meeting. People with disabilities who need special accommodations should contact Dr. Richard Horne (phone: (202) 693-4923; TTY (202) 693-4920; FAX (202) 693-4929; e-mail Horne-Richard@dol.gov) no later than one week before the meeting.

Attendees may request to make an oral presentation by notifying Dr. Richard Horne in writing at least 10 business days before the meeting. Oral presentations will be limited to 5 minutes. The request should state the capacity in which the person will appear and provide a brief outline of the presentation. Requests to make oral presentation to the Committee will be granted to the extent that time permits.

The agenda for this meeting includes:

• Introduction of Committee chair and election of other leadership positions

• An Overview of the President's New Freedom Initiative

• An Overview of the Role of the Office of Disability Employment Policy

• Solicitation of suggestions regarding youth issues in the next phase of the President's New Freedom Initiative

• Establishment of a time line for preparing and submitting the Advisory Committee's recommendations and report

• Scheduling of other Youth Advisory meetings

• Public Comment Session

An official record of the meeting will be available for public inspection in Room S 2220 of the Department of Labor Building (Francis Perkins Building) located at 200 Constitution Avenue, NW., Washington, DC 20210. For additional information contact Dr. Richard Horne (phone: (202) 693-4923; FAX (202) 693-4929; or e-mail Horne-Richard@dol.gov)

Signed at Washington, DC, this 8th day of February, 2002.
Gary Reed,
Acting Executive Director, Presidential Task Force on Employment of Adults with Disabilities.

[FR Doc. 02-3649 Filed 2-13-02; 8:45 am]

BILLING CODE 4510-23-P